DEPARTMENT OF ENERGY

Federal Energy Regulatory Commission

Combined Notice of Filings #2

Take notice that the Commission received the following electric corporate filings:

Docket Numbers: ER24-777-000.

Applicants: PJM Interconnection, L.L.C.

Description: § 205(d) Rate Filing: Amendment to 3 Service Agreements re: FirstEnergy Reorganization to be effective 12/31/9998.

Filed Date: 12/29/23.

Accession Number: 20231229-5133.

Comment Date: 5 p.m. ET 1/19/24.

Docket Numbers: ER24-778-000.

Applicants: Riverstart Solar Park LLC.

Description: § 205(d) Rate Filing: Reactive Power Compensation Filing to be effective 12/30/2023.

Filed Date: 12/29/23.

Accession Number: 20231229-5143.

Comment Date: 5 p.m. ET 1/19/24.

Docket Numbers: ER24-779-000.

Applicants: Horizon West Transmission, LLC.

Description: § 205(d) Rate Filing: Annual TRBAA Filing—2024 to be effective 1/1/2024.

Filed Date: 12/29/23.

Accession Number: 20231229-5162.

Comment Date: 5 p.m. ET 1/19/24.

Docket Numbers: ER24-780-000.

Applicants: GridLiance West LLC.

Description: § 205(d) Rate Filing: Annual TRBAA Filing 2024 to be effective 1/1/2024.

Filed Date: 12/29/23.

Accession Number: 20231229-5165.

Comment Date: 5 p.m. ET 1/19/24.

Docket Numbers: ER24-781-000.

Applicants: PJM Interconnection, L.L.C.

Description: § 205(d) Rate Filing: Amendment to ISA, Service Agreement No. 6894; Queue No. AF1-122 to be effective 2/28/2024.

Filed Date: 12/29/23.

Accession Number: 20231229-5181.

Comment Date: 5 p.m. ET 1/19/24.

Docket Numbers: ER24-782-000.

Applicants: Puget Sound Energy, Inc.

Description: § 205(d) Rate Filing: Amendatory Agreement No. 3 to PNW AC Intertie Capacity Ownership Agreement to be effective 10/1/2023.

Filed Date: 12/29/23.

Accession Number: 20231229-5188.

Comment Date: 5 p.m. ET 1/19/24.

Docket Numbers: ER24-783-000.

Applicants: Trans Bay Cable LLC.

Description: § 205(d) Rate Filing: Annual TRBAA Filing—2024 to be effective 1/1/2024.

Filed Date: 12/29/23.

Accession Number: 20231229-5191.

Comment Date: 5 p.m. ET 1/19/24.

Docket Numbers: ER24-784-000.

Applicants: Alabama Power Company, Georgia Power Company, Mississippi Power Company.

Description: § 205(d) Rate Filing: Alabama Power Company submits tariff filing per 35.13(a)(2)(iii: Kilgeng (Kilgeng BESS Project) LGIA Filing to be effective 12/15/2023.

Filed Date: 12/29/23.

Accession Number: 20231229-5194.

Comment Date: 5 p.m. ET 1/19/24.

Docket Numbers: ER24-785-000.

Applicants: Greenleaf Energy Unit 2, LLC.

Description: Petition for Limited Waiver of Greenleaf Energy Unit 2, LLC.

Filed Date: 12/28/23.

Accession Number: 20231228-5443.

Comment Date: 5 p.m. ET 1/18/24.

Docket Numbers: ER24-786-000.

Applicants: PJM Interconnection, L.L.C.

Description: § 205(d) Rate Filing: Revisions to OATT Sch. 12—Appendices re: 2024 RTEP Annual Cost Allocations to be effective 1/1/2024.

Filed Date: 12/29/23.

Accession Number: 20231229-5224

Comment Date: 5 p.m. ET 1/19/24.

Docket Numbers: ER24-787-000.

Applicants: Metropolitan Edison Company.

Description: § 205(d) Rate Filing: 2023-12-29 Notice of Succession of Market-Based Rate Tariffs to be effective 12/31/9998.

Filed Date: 12/29/23.

Accession Number: 20231229-5259.

Comment Date: 5 p.m. ET 1/19/24.

Docket Numbers: ER24-788-000.

Applicants: Pennsylvania Electric Company.

Description: § 205(d) Rate Filing: 2023-12-29 Notice of Succession of Market-Based Rate Tariffs to be effective 12/31/9998.

Filed Date: 12/29/23.

Accession Number: 20231229-5262.

Comment Date: 5 p.m. ET 1/19/24.

Docket Numbers: ER24-789-000.

Applicants: Pennsylvania Power Company.

Description: § 205(d) Rate Filing: 2023-12-29 Notice of Succession of Market-Based Rate Tariffs to be effective 12/31/9998.

Filed Date: 12/29/23.

Accession Number: 20231229-5279.

Comment Date: 5 p.m. ET 1/19/24.

Docket Numbers: ER24-790-000.

Applicants: West Penn Power Company.

Description: § 205(d) Rate Filing: 2023-12-29 Notice of Succession of Market-Based Rate Tariffs to be effective 12/31/9998.

Filed Date: 12/29/23.

Accession Number: 20231229-5282.

Comment Date: 5 p.m. ET 1/19/24.

Docket Numbers: ER24-791-000.

Applicants: Duke Energy Carolinas, LLC.

Description: § 205(d) Rate Filing: DEC-Central RS No. 633—Supplemental Agmt to be effective 1/1/2024.

Filed Date: 12/29/23.

Accession Number: 20231229-5302.

Comment Date: 5 p.m. ET 1/19/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 29, 2023.
Debbie-Anne A. Reese,
Deputy Secretary.

[FR Doc. 2024-00030 Filed 1-4-24; 8:45 am]

BILLING CODE 6717-01-P